DEPARTMENT OF HOUSING AND URBAN DEVELOPMENT

[Docket No. FR-5033-FA-01]

Announcement of Funding Awards for Fiscal Year 2005 for the Housing Choice Voucher Program

AGENCY: Office of the Assistant Secretary for Public and Indian Housing, HUD.

ACTION: Announcement of Fiscal Year 2005 awards.

SUMMARY: In accordance with Section 102(a)(4)(C) of the Department of Housing and Urban Development Reform Act of 1989, this document notifies the public of funding awards for Fiscal Year (FY) 2005 to housing agencies (HAs) under the Section 8 housing choice voucher program. The purpose of this notice is to publish the names, addresses, and the amount of the awards to HAs for non-competitive funding awards for housing conversion actions, public housing relocations and replacements, moderate rehabilitation replacements, and HOPE VI voucher awards.

FOR FURTHER INFORMATION CONTACT: David A. Vargas, Director, Office of Housing Voucher Programs, Office of Public and Indian Housing, Department of Housing and Urban Development, 451 Seventh Street, SW., Room 4226, Washington, DC 20410-5000, telephone (202) 708-2815. Hearing- or speech-impaired individuals may call HUD's TTY number at (800) 927-7589. (Only the “800” telephone number is toll-free.)

SUPPLEMENTARY INFORMATION: The regulations governing the housing choice voucher program are published at 24 CFR 982. The regulations for allocating housing assistance budget authority under Section 213(d) of the Housing and Community Development Act of 1974 are published at 24 CFR Part 791, Subpart D.

The purpose of this rental assistance program is to assist eligible families to pay the rent for decent, safe, and sanitary housing. The FY 2005 awardees announced in this notice were provided Section 8 funds on an as-needed, non-competitive basis, i.e., not consistent with the provisions of a Notice of Funding Availability (NOFAs). Announcements of awards provided consistent with NOFAs for mainstream housing and designated housing programs will be published in a separate Federal Register notice.

Awards published under this notice were provided (1) To assist families living in HUD-owned properties that are being sold; (2) to assist families affected by the expiration or termination of their project-based Section 8 and moderate rehabilitation contracts; (3) to assist families in properties where the owner has prepaid the HUD mortgage; (4) to provide relocation and replacement housing in connection with the demolition of public housing; (5) to provide replacement housing assistance for single room occupancy (SRO) units that fail housing quality standards (HQS); and (6) to assist families in public housing developments that are scheduled for demolition in connection with a HUD-approved HOPE VI Revitalization or Demolition Grant. Administrative fees were added to each assignment for the administration of housing choice vouchers awarded under this notice. In addition, special housing fees were included for applicable Housing tenant protection awards.

A total of $202,680,883 in budget authority for 26,540 housing choice vouchers was awarded to recipients under all of the above-mentioned categories.

In accordance with Section 102(a)(4)(C) of the Department of Housing and Urban Development Reform Act of 1989 (103 Stat. 1987, 42 U.S.C. 3545), the Department is publishing the names, addresses, and amounts of those awards as shown in Appendix A.

Dated: November 15, 2005.
Paula O. Blunt,
General Deputy Assistant Secretary, Office of Public and Indian Housing.

Appendix A.—Housing Choice Voucher Program Announcements of Funding Awards for Fiscal Year 2005
Housing agency | Address | Units | Award
Hope VI Vouchers
HA TUSCALOOSA | P.O. BOX 2281, TUSCALOOSA, AL 35403 | 222 | 473,846
TUCSON HSG MANAGEMENT DIV | 310 NORTH COMMERCE PARK LOOP, TUCSON, AZ 85726 | 35 | 107,352
CITY OF LOS ANGELES HA | 2600 WILSHIRE BLVD, 3RD FL, LOS ANGELES, CA 90057 | 290 | 2,512,560
DENVER HA | 777 GRANT ST, DENVER, CO 80203 | 151 | 1,500,336
STAMFORD HA | 22 CLINTON AVE, STAMFORD, CT 06904 | 155 | 1,257,919
HA OF JACKSONVILLE | 1300 BROAD ST, JACKSONVILLE, FL 32202 | 101 | 434,066
HA TAMPA | 1514 UNION ST, TAMPA, FL 33607 | 260 | 1,657,607
HA FORT LAUDERDALE CITY | 437 SW. 4TH AVE, FORT LAUDERDALE, FL 33315 | 78 | 661,752
HA DELAND | 300 SUNFLOWER CIRCLE, DE LAND, FL 32724 | 200 | 1,308,000
HA ATLANTA GA | 230 JOHN WESLEY DOBBS AVE, NE., ATLANTA, GA 30303 | 453 | 2,748,406
CHAMPAIGN COUNTY HA | 205 WEST PARK AVE, CHAMPAIGN, IL 61820 | 96 | 648,576
HA OF COOK COUNTY | 310 SOUTH MICHIGAN AVE, 15TH FL, CHICAGO, IL 60604 | 30 | 261,720
WINNEBAGO COUNTY HA | 2901 SEARLES AVE, ROCKFORD, IL 61101 | 3 | 9,800
LOUISVILLE HA | 420 SOUTH EIGHTH ST, LOUISVILLE, KY 40203 | 350 | 2,112,600
ALEXANDRIA HA | P.O. DRAWER 8219, ALEXANDRIA, LA 71306 | 247 | 1,058,148
BENTON HARBOR HSG COMM | 721 NATEWELLS SR. DR, BENTON HARBOR, MI 49022 | 52 | 161,460
GREENSBORO HA | P.O. BOX 21287, GREENSBORO, NC 27420 | 145 | 885,660
JERSEY CITY HA | 400 U.S. HIGHWAY #1, JERSEY CITY, NJ 07306 | 164 | 1,003,011
SPRINGFIELD MHA | 437 EAST JOHN ST, SPRINGFIELD, OH 45505 | 139 | 306,979
TULSA HA | P.O. BOX 6369, TULSA, OK 74148 | 20 | 83,603
HA OF PORTLAND | 135 SW., ASH ST, PORTLAND, OR 97204 | 81 | 794,124
ALLENTOWN HA | 1339 ALLEN ST, ALLENTOWN, PA 18102 | 341 | 996,075
EL PASO HA | 5300 PAISANO, EL PASO, TX 79905 | 250 | 697,485
BROWNSVILLE HA | P.O. BOX 4420, BROWNSVILLE, TX 78523 | 86 | 398,352
NORFOLK RHA | 201 GRANBY ST, NORFOLK, VA 23501 | 636 | 2,588,724
VIRGIN ISLANDS HA | P.O. BOX 7668, ST. THOMAS, VI 00801 | 284 | 2,048,208
HA CITY OF SEATTLE | 120 SIXTH AVE NORTH, SEATTLE, WA 98109 | 448 | 3,935,232
HA COUNTY OF KING | 600 ANDOVER PARK WEST, SEATTLE, WA 98188 | 110 | 927,960
HA OF CITY OF MILWAUKEE | 809 NORTH BROADWAY, MILWAUKEE, WI 53201 | 76 | 394,896
Total for Hope VI Vouchers |  | 5,503 | $31,974,457
Housing Tenant Protection
AK HSG FINANCE CORP | P.O. BOX 101020, ANCHORAGE, AK 99510 | 35 | 289,772
HA OF BIRMINGHAM DIST | 1826 3RD AVE SOUTH, BIRMINGHAM, AL 35233 | 0 | 173,036
MOBILE HOUSING BOARD | P.O. BOX 1345, MOBILE, AL 36633 | 13 | 72,129
HA CITY OF MONTGOMERY | 1020 BELL ST, MONTGOMERY, AL 36104 | 186 | 1,107,185
HA OF CITY OF N LTL ROCK | P.O. BOX 516, NORTH LITTLE ROCK, AR 72115 | 59 | 320,335
WEST MEMPHIS HA | 2820 HARRISON ST, WEST MEMPHIS, AR 72301 | 0 | 97,664
CITY OF PHOENIX | 251 W. WASHINGTON ST, PHOENIX, AZ 85034 | 51 | 358,020
SCOTTSDALE HA | 7515 E. FIRST ST, SCOTTSDALE, AZ 85251 | 35 | 303,616
SAN FRANCISCO HA | 440 TURK ST, SAN FRANCISCO, CA 94102 | 0 | 50,250
LOS ANGELES COUNTY HA | 2 CORAL CIRCLE, MONTEREY, CA 93907 | 18 | 162,240
OAKLAND HA | 1619 HARRISON ST, OAKLAND, CA 94612 | 0 | 1,188
CITY OF LOS ANGELES HA | 2600 WILSHIRE BLVD, 3RD FL, LOS ANGELES, CA 90057 | 81 | 765,912
CITY OF FRESNO HA | 1331 FULTON MALL, FRESNO, CA 93776 | 5 | 35,458
SACRAMENTO HRA | P.O. BOX 1834, SACRAMENTO, CA 95812 | 6 | 644,232
KERN COUNTY HA | 601 24TH ST, BAKERSFIELD, CA 93301 | 0 | 12,856
COUNTY OF SAN JOAQUIN HA | 448 SOUTH CENTER ST, STOCKTON, CA 95203 | 0 | 2,592
RIVERSIDE COUNTY HA | 5555 ARLINGTON AVE, RIVERSIDE, CA 92504 | 99 | 643,413
COUNTY OF SANTA CLARA HA | 505 WEST JULIAN ST, SAN JOSE, CA 95110 | 44 | 646,193
CITY OF ALAMEDA HA | 701 ATLANTIC AVE, ALAMEDA, CA 94501 | 50 | 613,722
SAN DIEGO HSG COMM | 1625 NEWTON AVE, SAN DIEGO, CA 92113 | 120 | 857,452
CITY OF SANTA ROSA HA | 90 SANTA ROSA AVE, SANTA ROSA, CA 95402 | 24 | 228,045
ANAHEIM HA | 201 S. ANAHEIM BLVD, STE 203, ANAHEIM, CA 92805 | 40 | 373,297
GLENDALE HA | 141 NORTH GLENDALE AVE, #202, GLENDALE, CA 91206 | 0 | 384
CO DIV OF HSG | 1313 SHERMAN ST, R00M 518, DENVER, CO 80203 | 42 | 307,886
HA OF CITY OF NEW HAVEN | 360 ORANGE ST, NEW HAVEN, CT 06511 | 28 | 257,156
WILLIMANTIC HA | 49 WEST AVE, WILLIMANTIC, CT 06226 | 0 | 5,818
BRISTOL HA | 31 QUAKER LANE, BRISTOL, CT 06010 | 141 | 994,896
CITY OF HARTFORD HA | 10 PROSPECT ST, HARTFORD, CT 06103 | 260 | 2,011,957
CONN DEPT OF SOCIAL SERVICES | 25 SIGOURNEY ST, 9TH FL, HARTFORD, CT 06105 | 0 | 17,500
DCHA | 1133 NORTH CAPITOL ST NE, WASHINGTON, DC 20002 | 39 | 439,823
HA OF JACKSONVILLE | 1300 BROAD ST, JACKSONVILLE, FL 32202 | 0 | 7,500
HA TAMPA | 1514 UNION ST, TAMPA, FL 33607 | 0 | 5,568
HA WEST PALM BEACH GEN FUND | 1715 DIVISION AVE, WEST PALM BEACH, FL 33407 | 89 | 698,511
BRADENTON HA | 1307 5TH ST WEST, BRADENTON, FL 34205 | 0 | 4,800
CITY OF FORT MYERS HA | 1700 MEDICAL LANE, FORT MYERS, FL 33907 | 0 | 1,440
HA SAVANNAH | 200 EAST BROAD ST, SAVANNAH, GA 31402 | 68 | 452,412
HA COLUMBUS GA GEN FUND ACCT C | P.O. BOX 630, COLUMBUS, GA 31902 | 54 | 271,328
HA ATLANTA GA | 230 JOHN WESLEY DOBBS AVE NE, ATLANTA, GA 30303 | 264 | 2,695,153
HA MACON | P.O. BOX 4928, MACON, GA 31208 | 120 | 689,708
HA MARIETTA | P.O. DRAWER K, MARIETTA, GA 30061 | 0 | 12,000
HA JONESBORO | P.O. BOX 458, JONESBORO, GA 30237 | 161 | 1,324,933
HA DEKALB COUNTY | P.O. BOX 1627, DECATUR, GA 30031 | 40 | 407,478
DCA | 60 EXECUTIVE PARK SOUTH, NE, STE 250, ATLANTA, GA 30329 | 90 | 597,470
COUNTY OF HAWAII | 50 WAILUKU DR, HILO, HI 96720 | 0 | 1,250
EVANSDALE MUNICIPAL HA | 119 MORRELL COURT, EVANSDALE, IA 50707 | 19 | 92,141
SPIRIT LAKE LOW RENT HSG AGENCY | 710 LAKE ST, SPIRIT LAKE, IA 51360 | 42 | 182,609
CENTRAL IOWA REG'L HOUSING | 950 OFFICE PARK RD, STE 321, WEST DES MOINES, IA 50265 | 44 | 184,897
CHICAGO HA | 626 WEST, JACKSON BLVD, CHICAGO, IL 60661 | 1,366 | 12,716,056
ROCKFORD HA | 223 SOUTH WINNEBAGO ST, ROCKFORD, IL 61102 | 190 | 1,143,144
HA OF COOK COUNTY | 310 SOUTH MICHIGAN AVE, 15TH FL, CHICAGO, IL 60604 | 1,049 | 9,046,222
HA OF COUNTY OF LAKE | 33928 N ROUTE 45, GRAYSLAKE, IL 60030 | 20 | 178,290
MCHENRY COUNTY HA | 1108 NORTH SEMINARY AVE, WOODSTOCK, IL 60098 | 0 | 4,800
INDIANAPOLIS HA | 1919 N. MERIDIAN ST, INDIANAPOLIS, IN 46202 | 18 | 114,534
MICHIGAN CITY HA | 621 EAST MICHIGAN BLVD, MICHIGAN, IN 46360 | 10 | 52,658
TERRE HAUTE HA | P.O. BOX 3086, TERRE HAUTE, IN 47803 | 0 | 19,500
UNION CITY HA | 303 FLETCHER AVE, UNION CITY, IN 47390 | 0 | 30,794
INDIANA DEPT OF HUMAN SERVICES | P.O. BOX 6116, INDIANAPOLIS, IN 46206 | 23 | 160,097
KANSAS CITY HA | 1124 NORTH NINTH ST, KANSAS CITY, KS 66101 | 0 | 80,000
NEWTON HA | 115 WEST 9TH ST, NEWTON, KS 67114 | 0 | 12,250
RILEY COUNTY HA | 401 HOUSTON ST, MANHATTAN, KS 66502 | 0 | 35,250
NEK-CAP, INC | P.O. BOX 380, HIAWATHA, KS 66434 | 15 | 50,717
CITY OF RICHMOND SECTION 8 HSG | P.O. BOX 250, RICHMOND, KY 40476 | 80 | 339,677
PADUCAH HA | 300 SOUTH FIFTH ST, PADUCAH, KY | 0 | 36,700
TAUNTON HA | 30 OLNEY ST, STE B, TAUNTON, MA 02780 | 3 | 31,181
NORTHAMPTON HA | 49 OLD SOUTH ST, NORTHAMPTON, MA 01060 | 0 | 55,250
SOMERVILLE HA | 30 MEMORIAL RD, SOMERVILLE, MA 02145 | 0 | 103,407
COMM DEV PROG COMM OF MA.EOCD | 100 CAMBRIDGE ST, BOSTON, MA 02114 | 12 | 182,044
HA OF BALTIMORE CITY | 417 EAST FAYETTE ST, BALTIMORE, MD 21201 | 46 | 403,935
HA OF CITY OF FREDERICK | 209 MADISON ST, FREDERICK, MD 21701 | 22 | 234,597
WICOMICO COUNTY HA | 911 BOOTH ST, SALISBURY, MD 21801 | 0 | 16,500
HA OF PRINCE GEORGE'S COUNTY | 9400 PEPPERCORN PLACE, STE 200, LARGO, MD 20774 | 0 | 26,750
ANNE ARUNDEL COUNTY HA | 7885 GORDON COURT, GLEN BURNIE, MD 21060 | 48 | 416,304
PORTLAND HA | 14 BAXTER BLVD, PORTLAND, ME 04101 | 0 | 10,830
AUGUSTA HA | 33 UNION ST, STE 3, AUGUSTA, ME 04330 | 0 | 252
PONTIAC HSG COMM | 132 FRANKLIN BLVD, PONTIAC, MI 48341 | 0 | 1,200
INKSTER HSG COMM | 4500 INKSTER RD, INKSTER, MI 48141 | 81 | 496,530
BATTLE CREEK HSG COMM | 250 CHAMPION ST, BATTLE CREEK, MI 49017 | 0 | 43,750
EASTPOINTE HSG COMM | 15701 EAST NINE MILE RD, EASTPOINTE, MI 48021 | 40 | 237,136
PLYMOUTH HSG COMM | 1160 SHERIDAN, PLYMOUTH, MI 48170 | 72 | 553,597
LIVONIA HSG COMM | 19300 PURLINGBROOK RD, LIVONIA, MI 48152 | 21 | 159,248
FERNDALE HSG COMM | 415 WITHINGTON, FERNDALE, MI 48220 | 0 | 21,500
WESTLAND HSG COMM | 32715 DORSEY RD, WESTLAND, MI 48186 | 0 | 65,750
MICHIGAN STATE HDA | P.O. BOX 30044, LANSING, MI 48909 | 502 | 3,378,965
ST. PAUL PHA | 555 NORTH WABASHA, STE 400, ST. PAUL, MN 55102 | 0 | 261,534
ST. CLOUD HRA | 1225 WEST ST. GERMAIN, ST. CLOUD, MN 56301 | 0 | 432
PLYMOUTH HRA | 3400 PLYMOUTH BLVD, PLYMOUTH, MN 55447 | 48 | 411,530
LE SUEUR COUNTY HRA | 464 RAINTREE RD, MANKATO, MN 56001 | 40 | 165,062
RICHFIELD HRA | 6700 PORTLAND AVE SOUTH, RICHFIELD, MN 55423 | 5 | 35,711
ST. LOUIS HA | 4100 LINDELL BLVD, ST. LOUIS, MO 63108 | 388 | 2,254,450
MEXICO HA | P.O. BOX 484, MEXICO, MO 65265 | 61 | 212,780
INDEPENDENCE HA | 210 SOUTH PLEASANT, INDEPENDENCE, MO 64050 | 36 | 383,386
ST. CLAIR COUNTY HA | APPLETON CITY, MO 64724 | 60 | 300,785
ST. FRANCOIS COUNTY PHA | P.O. BOX N, PARK HILLS, MO 63601 | 0 | 31,250
HA MISSISSIPPI REGIONAL NO 5 | P.O. BOX 419, NEWTON, MS 39345 | 0 | 2,016
MISS REGIONAL HA VIII | P.O. BOX 2347, GULFPORT, MS 39505 | 0 | 360
BILLINGS HA | 2415 1ST AVE NORTH, BILLINGS, MT 59101 | 0 | 11,250
HELENA HA | 812 ABBEY ST, HELENA, MT 59601 | 0 | 12,250
FAYETTEVILLE MHA | P.O. DRAWER 2349, FAYETTEVILLE, NC 28302 | 0 | 5,750
HA SANFORD | 504 N FIRST ST, SANFORD, NC 27331 | 0 | 10,250
HA MONROE | 504 HOUGH ST, MONROE, NC 28111 | 0 | 1,250
HA ROANOKE CHOWAN REG HSG | 205 GASTON DR, GASTON, NC 27832 | 0 | 1,750
COLUMBUS CTY PHA | 715 N LEGION RD, WHITEVILLE, NC 28472 | 0 | 750
CHOANOKE AREA DEV ASSN | P.O. BOX 530, RICH SQUARE, NC 27869 | 0 | 2,500
ECONOMIC IMPROV COUNCIL, INC | 712 VIRGINIA RD, EDENTON, NC 27932 | 0 | 3,750
SANDHILLS COMM ACTION PROG INC | 103 SAUNDERS ST, CARTHAGE, NC 28327 | 0 | 500
FRANKLIN VANCE WARREN OPP'TY I | P.O. BOX 1453, HENDERSON, NC 27536 | 0 | 1,250
MORTON COUNTY HA | 1500 3RD AVE NW., MANDAN, ND 58554 | 0 | 23,489
MERCER COUNTY HA | 1500 THIRD AVE NW., MANDAN, ND 58554 | 10 | 33,874
PERTH AMBOY HA | 881 AMBOY AVE, PERTH AMBOY, NJ 08862 | 0 | 78,384
ATLANTIC CITY HA | 227 VERMONT AVE, ATLANTIC CITY, NJ 08404 | 56 | 459,583
HOBOKEN HA | 400 HARRISON ST, HOBOKEN, NJ 07030 | 14 | 135,453
MILLVILLE HA | P.O. BOX 803, MILLVILLE, NJ 08332 | 0 | 8,000
NJDCA | 101 SOUTH BROAD ST, TRENTON, NJ 08625 | 7 | 65,406
LAS CRUCES HA | 926 S SAN PEDRO, LAS CRUCES, NM 88001 | 0 | 29,750
BERNALILLO COUNTY HSG DEPT | 1900 BRIDGE BLVD, SW., ALBUQUERQUE, NM 87105 | 0 | 24,250
COUNTY OF CLARK HA | 5390 EASTFLAMINGO RD, LAS VEGAS, NV 89122 | 0 | 46,087
NEW YORK CITY HA | 250 BROADWAY, NEW YORK, NY 10007 | 3,682 | 30,437,812
HA OF MECHANICVILLE | HARRIS AVE, MECHANICVILLE, NY 12118 | 26 | 106,429
HA OF ROME | 205 ST PETER'S AVE, ROME, NY 13440 | 24 | 95,615
HA OF ROCHESTER | 675 WESTMAIN ST, ROCHESTER, NY 14611 | 0 | 46,250
HA OF LOCKPORT | 301 MICHIGAN ST, LOCKPORT, NY 14094 | 164 | 743,050
THE CITY OF NEW YORK | 100 GOLD ST RM 5N, NEW YORK, NY 10007 | 0 | 2,353,774
CITY OF NORTH TONAWANDA | C/O BELMONT SHELTER, 1195 MAIN ST, BUFFALO, NY 14209 | 0 | 39,000
CITY OF BUFFALO | C/O RENTAL ASST CORP, 470 FRANKLIN ST, BUFFALO, NY 14202 | 0 | 30,250
CITY OF HUDSON | COMM DEV & PLANNING, 444 WARREN ST, HUDSON, NY 12534 | 25 | 141,256
NEW YORK STATE HFA | 25 BEAVER ST, RM 674, NEW YORK, NY 10004 | 1,290 | 19,742,209
COLUMBUS MHA | 880 EAST 11TH AVE, COLUMBUS, OH 43211 | 110 | 715,375
YOUNGSTOWN MHA | 131 WEST BOARDMAN ST, YOUNGSTOWN, OH 44503 | 100 | 551,404
CUYAHOGA MHA | 1441 WEST 25TH ST, CLEVELAND, OH 44113 | 13 | 114,010
CINCINNATI MHA | 16 WEST CENTRAL PARKWAY, CINCINNATI, OH 45210 | 37 | 241,409
LUCAS MHA | 435 NEBRASKA AVE, TOLEDO, OH 43602 | 64 | 359,816
AKRON MHA | 100 W. CEDAR ST, AKRON, OH 44307 | 240 | 1,470,160
LORAIN MHA | 1600 KANSAS AVE, LORAIN, OH 44052 | 24 | 154,553
MANSFIELD MHA | 150 PARK AVE WEST, MANSFIELD, OH 44901 | 0 | 1,152
PORTAGE MHA | 2832 STATE ROUTE 59, RAVENNA, OH 44266 | 115 | 707,221
HAMILTON COUNTY PHA | 630 MAIN ST, 1ST FL, CINCINNATI, OH 45202 | 13 | 110,536
MIDDLETOWN PHA | 1040 CENTRAL AVE, MIDDLETOWN, OH 45044 | 108 | 655,547
SENECA MHA | 150 PARK AVE WEST, MANSFIELD, OH 44901 | 0 | 360
HANCOCK MHA | 604 LIMA AVE, FINDLAY, OH 45840 | 0 | 5,250
HA CITY OF SALEM | P.O. BOX 808, SALEM, OR 97308 | 8 | 44,832
HA CITY OF PITTSBURG | 200 ROSS ST, PITTSBURGH, PA 15219 | 182 | 966,384
PHILADELPHIA HA | 12 SOUTH 23RD ST, PHILADELPHIA, PA 19103 | 14 | 148,662
ALLEGHENY COUNTY HA | 625 STANWIX ST, 12TH FL, PITTSBURGH, PA 15222 | 46 | 274,828
HA OF COUNTY OF BUTLER | 114 WOODY DR, BUTLER, PA 16001 | 0 | 1,872
SUNBURY HA | 705 MARKET ST, SUNBURY, PA 17801 | 0 | 17,748
PROVIDENCE HA | 100 BROAD ST, PROVIDENCE, RI 02903 | 5 | 34,900
MUNICIPALITY OF BAYAMON | P.O. BOX 1588, BAYAMON, PR 00960 | 272 | 1,854,642
MUNICIPALITY OF PENUELAS | P.O. BOX 10, PENUELAS, PR 00624 | 70 | 361,967
HA SOUTH CAROLINA REG NO 1 | 404 CHURCH ST, LAURENS, SC 29360 | 0 | 7,500
HA BEAUFORT | 1009 PRINCE ST, BEAUFORT, SC 29901 | 20 | 106,567
HA FLORENCE | P.O. DRAWER 969, FLORENCE, SC 29503 | 92 | 431,502
ABERDEEN HA | 2324 3RD AVE SE., ABERDEEN, SD 57401 | 0 | 14,861
PENNINGTON COUNTY HA | 1805 WEST FULTON ST, RAPID CITY, SD 57702 | 0 | 3,000
CHATTANOOGA HA | P.O. BOX 1486, CHATTANOOGA, TN 37402 | 0 | 32,000
KINGSPORT HRA | P.O. BOX 44, KINGSPORT, TN 37662 | 0 | 936
EAST TN HRA | 9111 CROSS PARK DR, STE D100, KNOXVILLE, TN 37923 | 78 | 363,431
TENNESSEE HDA | 404 JAMES ROBERTSON PKWY, STE 1114, NASHVILLE, TN 37243 | 4 | 20,565
EL PASO HA | 5300 PAISANO, EL PASO, TX 79905 | 61 | 349,152
FORT WORTH HA | 1201 E. 13TH ST, FORT WORTH, TX 76101 | 0 | 23,250
CORPUS CHRISTI HA | 3701 AYERS ST, CORPUS CHRISTI, TX 78415 | 0 | 3,204
BROWNWOOD HA | 1500 TERRACE DR., BROWNWOOD, TX 76804 | 0 | 720
ABILENE HA | 555 WALNUT, ABILENE, TX 79604 | 0 | 11,246
DENTON HA | 1225 WILSON ST, DENTON, TX 76205 | 30 | 246,584
TARRANT COUNTY HA | 2100 CIRCLE DR, STE 200, FORT WORTH, TX 76119 | 6 | 73,326
ARLINGTON HA | 501 W. SANFORD, STE 20, ARLINGTON, TX 76011 | 40 | 302,200
GRAND PRAIRIE HA | P201 NW 2ND ST, STE 150, GRAND PRAIRIE, TX 75053 | 40 | 353,602
SAN ANGELO HA | 106 SOUTH CHADBOURNE, SAN ANGELO, TX 76903 | 4 | 18,470
SOUTH PLAINS HA | P.O. BOX 610, LEVELLAND, TX 79336 | 75 | 521,128
MONTGOMERY COUNTY HA | 1022 MCCALL AVE, CONROE, TX 77301 | 23 | 167,621
SALT LAKE COUNTY HA | 3595 S. MAIN ST, SALT LAKE CITY, UT 84115 | 6 | 42,475
PORTSMOUTH RHA | 801 WATER ST, STE 200, PORTSMOUTH, VA 23705 | 240 | 1,563,840
LYNCHBURG RHA | 918 COMMERCE ST, LYNCHBURG, VA 24505 | 0 | 5,250
FAIRFAX CO RHA | 3700 PENDER DR, STE 300, FAIRFAX, VA 22030 | 36 | 406,237
SUFFOLK RHA | 530 EAST PINNER ST, SUFFOLK, VA 23434 | 128 | 795,136
CITY OF VIRGINIA BEACH HA | 2424 COURTHOUSE DR., VIRGINIA BEACH, VA 23456 | 24 | 164,394
VIRGINIA HDA | 601 SOUTH BELVIDERE ST, RICHMOND, VA 23220 | 56 | 348,211
VIRGIN ISLANDS HA | P.O. BOX 7668, ST. THOMAS, VI 00801 | 12 | 89,989
HA CITY OF YAKIMA | 810 N 6TH AVE, YAKIMA, WA 98902 | 0 | 1,080
HA OF THURSTON COUNTY | 503 WEST FOURTH AVE, OLYMPIA, WA 98501 | 48 | 300,501
PIERCE COUNTY HA | 603 S POLK, TACOMA, WA 98445 | 26 | 173,214
HA CITY OF SPOKANE | WEST 55 MISSION ST, STE 104, SPOKANE, WA 99201 | 21 | 107,506
RACINE COUNTY HA | 837 MAIN ST, RACINE, WI 53403 | 96 | 473,971
PLATTEVILLE HA | 75 NORTH BONSON ST, PLATTEVILLE, WI 53818 | 0 | 8,000
JANESVILLE CDA | 18 NORTH JACKSON ST, JANESVILLE, WI 53547 | 0 | 840
MARINETTE CO HA | 926 MAIN ST, WAUSAUKEE, WI 54177 | 0 | 660
WISCONSIN HEDA | P.O. BOX 1728, MADISON, WI 53701 | 0 | 1,584
CHEYENNE HA | 3304 SHERIDAN AVE, CHEYENNE, WY 82009 | 0 | 15,750
Total for Housing Tenant Protection |  | 14,508 | $124,975,238
Mod Rehab Replacements and Fees
HA SELMA | P.O. BOX 950, SELMA, AL 36702 | 1 | 1,541
LOS ANGELES COUNTY HA | 2 CORAL CIRCLE, MONTEREY, CA 91755 | 124 | 986,078
CITY OF LOS ANGELES HA | 2600 WILSHIRE BLVD, 3RD FL, LOS ANGELES, CA 90057 | 0 | 37,906
CITY OF FRESNO HA | 1331 FULTON MALL, FRESNO, CA 93776 | 0 | 22,043
SACRAMENTO HRA | P.O. BOX 1834, SACRAMENTO, CA 95812 | 0 | 35,629
KERN COUNTY HA | 601 24TH ST, BAKERSFIELD, CA 93301 | 7 | 32,945
COUNTY OF STANISLAUS HA | 1701 ROBERTSON RD, MODESTO, CA 95358 | 11 | 27,561
RIVERSIDE COUNTY HA | 5555 ARLINGTON AVE, RIVERSIDE, CA 92504 | 155 | 1,221,845
TULARE COUNTY HA | 5140 W. CYPRESS AVE, VISALIA, CA 93279 | 5 | 50,793
OXNARD HA | 435 SOUTH D ST, OXNARD, CA 93030 | 7 | 38,253
SAN DIEGO HSG COMM | 1625 NEWTON AVE, SAN DIEGO, CA 92113 | 21 | 228,811
MENDOCINO COUNTY CDHC | 1076 NORTH STATE ST, UKIAH, CA 95482 | 16 | 82,143
GARDEN GROVE HA | 11277 GARDEN GROVE BLVD, STE 101C, GARDEN, CA 92842 | 103 | 938,350
CITY OF REDDING HA | 777 CYPRESS AVE, REDDING, CA 96049 | 2 | 4,573
CALIFORNIA DHCD | P.O. BOX 952054, SACRAMENTO, CA 94252 | 16 | 53,162
AURORA HA | 10745 E KENTUCKY AVE, AURORA, CO 80012 | 3 1 | 9,628
NORWALK HA | 24½ MONROE ST, SOUTH NORWALK, CT 06854 | 1 | 3,382
WILLIMANTIC HA | 49 WEST AVE, WILLIMANTIC, CT 06226 | 0 | 6,702
CITY OF HARTFORD HA | 10 PROSPECT ST, HARTFORD, CT 06103 | 3 | 40,210
DCHA | 1133 NORTH CAPITOL ST., NE., WASHINGTON, DC 20002 | 20 | 111,110
HA OF JACKSONVILLE | 1300 BROAD ST, JACKSONVILLE, FL 32202 | 1 | 19,913
MIAMI DADE HA | 1401 NW 7TH ST, MIAMI, FL 33125 | 263 | 754,651
HA WEST PALM BEACH GEN FUND | 1715 DIVISION AVE, WEST PALM BEACH, FL 33407 | 10 | 73,118
HA OCALA | P.O. BOX 2468, OCALA, FL 34478 | 30 | 58,080
HA HOLLYWOOD | 7300 N. DAVIE RD EXTENSION, HOLLYWOOD, FL 33024 | 6 | 24,477
HA MACON | P.O. BOX 4928, MACON, GA 31208 | 0 | 84,243
HA MARIETTA | P.O. DRAWER K, MARIETTA, GA 30061 | 0 | 31,496
HA DEKALB COUNTY | P.O. BOX 1627, DECATUR, GA 30031 | 7 | 23,147
DES MOINES MUNICIPAL HA | 100 EAST EUCLID, STE 101, DES MOINES, IA 50313 | 4 | 19,725
DUBUQUE DEPT OF HUMAN RIGHTS | 1805 CENTRAL AVE, DUBUQUE, IA 52001 | 12 | 32,394
CITY OF AMES DEPT OF PLANNING | 515 CLARK AVE, AMES, IA 50010 | 20 | 48,018
CHICAGO HA | 626 WEST JACKSON BLVD, CHICAGO, IL 60661 | 232 | 2,081,866
PEORIA HA | 100 SOUTH SHERIDAN RD, PEORIA, IL 61605 | 2 | 24,844
TERRE HAUTE HA | P.O. BOX 3086, TERRE HAUTE, IN 47803 | 0 | 40,619
KANSAS CITY HA | 1124 NORTH NINTH ST, KANSAS CITY, KS 66101 | 0 | 157,977
NEWTON HA | 115 WEST 9TH ST, NEWTON, KS 67114 | 0 | 16,294
RILEY COUNTY HA | 401 HOUSTON ST, MANHATTAN, KS 66502 | 0 | 84,041
PADUCAH HA | 300 SOUTH FIFTH ST, PADUCAH, KY 42002 | 0 | 18,200
NEW ORLEANS HA | 4100 TOURO ST, NEW ORLEANS, LA 70122 | 91 | 672,725
SULPHUR HA | P.O. BOX 271, SULPHUR, LA 70664 | 3 | 3,631
BOSTON HA | 52 CHAUNCY ST, BOSTON, MA 02111 | 24 | 215,114
NORTHAMPTON HA | 49 OLD SOUTH ST, NORTHAMPTON, MA 01060 | 0 | 115,446
COMM DEV PROG COMM OF MA.E.O.D | 100 CAMBRIDGE ST, BOSTON, MA 02114 | 19 | 278,162
HA OF BALTIMORE CITY | 417 EAST FAYETTE ST, BALTIMORE, MD 21201 | 1 | 7,598
MONTGOMERY CO HA | 10400 DETRICK AVE, KENSINGTON, MD 20895 | 7 | 96,632
WICOMICO COUNTY HA | 911 BOOTH ST, SALISBURY, MD 21801 | 0 | 37,169
MD DEPT OF HCD | 100 COMMUNITY PL, CROWNSVILLE, MD 21032 | 1 | 7,203
PORTLAND HA | 14 BAXTER BLVD, PORTLAND, ME 04101 | 0 | 21,467
MAINE STATE HA | 353 WATER ST, AUGUSTA, ME 04330 | 5 | 6,902
BATTLE CREEK HSG COMM | 250 CHAMPION ST, BATTLE CREEK, MI 49017 | 0 | 86,163
EASTPOINTE HSG COMM | 15701 EAST NINE MILE RD, EASTPOINTE, MI 48021 | 0 | 21,850
FERNDALE HSG COMM | 415 WITHINGTON, FERNDALE, MI 48220 | 0 | 46,977
WESTLAND HSG COMM | 32715 DORSEY RD, WESTLAND, MI 48186 | 0 | 142,809
MICHIGAN STATE HDA | P.O. BOX 30044, LANSING, MI 48909 | 29 | 611,968
MINNEAPOLIS PHA | 1001 WASHINGTON AVE NO, MINNEAPOLIS, MN 55401 | 2 | 12,121
LE SUEUR COUNTY HRA | 464 RAINTREE RD, MANKATO, MN 56001 | 0 | 18,902
INDEPENDENCE HA | 210 SOUTH PLEASANT, INDEPENDENCE, MO 64050 | 0 | 347,844
ST. FRANCOIS COUNTY PHA | P.O. BOX N, PARK HILLS, MO 63601 | 0 | 57,030
MISS REGIONAL HA VI | P.O. DRAWER 8746, JACKSON, MS 39284 | 9 | 49,191
BILLINGS HA | 2415 1ST AVE NORTH, BILLINGS, MT 59101 | 0 | 30,132
HELENA HA | 812 ABBEY ST, HELENA, MT 59601 | 0 | 30,782
MDOC | 836 FRONT ST, HELENA, MT 59620 | 5 | 15,869
RALEIGH HA | P.O. BOX 28007, RALEIGH, NC 27611 | 6 | 33,035
KINSTON HA | 608 N QUEEN ST, KINSTON, NC 28502 | 8 | 12,369
FAYETTEVILLE MHA | P.O. DRAWER 2349, FAYETTEVILLE, NC 28302 | 0 | 12,564
HA SANFORD | 504 N FIRST ST, SANFORD, NC 27331 | 0 | 37,485
HA MONROE | 504 HOUGH ST, MONROE, NC 28111 | 0 | 4,341
HA ROANOKE CHOWAN REG HSG | 205 GASTON DR, GASTON, NC 27832 | 0 | 5,351
COLUMBUS CTY PHA | 715 N LEGION RD, WHITEVILLE, NC 28472 | 0 | 5,448
CHOANOKE AREA DEV ASSN | P.O. BOX 530, RICH SQUARE, NC 27869 | 0 | 5,448
ECONOMIC IMPROV COUNCIL, INC | 712 VIRGINIA RD, EDENTON, NC 27932 | 0 | 8,085
SANDHILLS COMM ACTION PROG INC | 103 SAUNDERS ST, CARTHAGE, NC 28327 | 0 | 1,486
FRANKLIN VANCE WARREN OPP'TY I | P.O. BOX 1453, HENDERSON, NC 27536 | 0 | 4,734
OMAHA HA | 540 SOUTH 27TH ST, OMAHA, NE 68105 | 49 | 199,910
NEW HAMPSHIRE HFA | P.O. BOX 5087, MANCHESTER, NH 03108 | 15 | 116,695
MILLVILLE HA | P.O. BOX 803, MILLVILLE, NJ 08332 | 0 | 23,063
LAS CRUCES HA | 926 S SAN PEDRO, LAS CRUCES, NM 88001 | 0 | 59,866
BERNALILLO COUNTY HSG DEPT | 1900 BRIDGE BLVD, SW., ALBUQUERQUE, NM 87105 | 0 | 67,271
CITY OF RENO HA | 1525 EAST NINTH ST, RENO, NV 89512 | 7 | 14,847
NEW YORK CITY HA | 250 BROADWAY, NEW YORK, NY 10007 | 0 | 2,242,249
HA OF MECHANICVILLE | HARRIS AVE, MECHANICVILLE, NY 12118 | 0 | 15,619
HA OF ROCHESTER | 675 WEST MAIN ST, ROCHESTER, NY 14611 | 0 | 110,045
HA OF AMSTERDAM | 52 DIVISION ST, AMSTERDAM, NY 12010 | 5 | 72,683
TOWN OF AMHERST | C/O BELMONT SHELTER, 1195 MAIN ST, BUFFALO, NY 14209 | 0 | 2,301
THE CITY OF NEW YORK | 100 GOLD ST ROOM 5N, NEW YORK, NY 10004 | 144 | 3,689,521
CITY OF NEW ROCHELLE | 515 NORTH AVE, NEW ROCHELLE, NY 10801 | 4 | 16,278
TOWN OF SOUTHAMPTON | 116 HAMPTON RD, SOUTHAMPTON, NY 11968 | 12 | 41,697
CITY OF NORTH TONAWANDA | C/O BELMONT SHELTER, 1195 MAIN ST, BUFFALO, NY 14209 | 0 | 83,709
CITY OF BUFFALO | C/O RENTAL ASST CORP, 470 FRANKLIN ST, BUFFALO, NY 14202 | 0 | 67,217
NEW YORK STATE HFA | 25 BEAVER ST, RM 674, NEW YORK, NY 10004 | 8 | 1,539,959
COLUMBUS MHA | 880 EAST 11TH AVE, COLUMBUS, OH 43211 | 39 | 115,504
CUYAHOGA MHA | 1441 WEST 25TH ST, CLEVELAND, OH 44113 | 64 | 417,405
CINCINNATI MHA | 16 WEST CENTRAL PARKWAY, CINCINNATI, OH 45210 | 22 | 124,985
HANCOCK MHA | 604 LIMA AVE, FINDLAY, OH 45840 | 0 | 16,087
HA & COMM SVCS AGENCY LANE CO | 177 DAY ISLAND RD, EUGENE, OR 97401 | 10 | 44,254
HA OF YAMHILL COUNTY | 135 NE. DUNN PL, MCMINNVILLE, OR 97128 | 1 | 5,735
COOS-CURRY HA | 1700 MONROE, NORTH BEND, OR 97459 | 21 | 57,539
HA CITY OF PITTSBURG | 200 ROSS ST, PITTSBURGH, PA | 1 | 4,647
PHILADELPHIA HA | 12 SOUTH 23RD ST, PHILADELPHIA, PA 19103 | 201 | 1,355,452
ALLEGHENY COUNTY HA | 625 STANWIX ST, 12TH FL, PITTSBURGH, PA 15222 | 4 | 54,481
CHESTER HA | 1010 MADISON ST, CHESTER, PA 19016 | 1 | 1,484
WESTMORELAND COUNTY HA | 223 SOUTH GREENGATE RD, GREENSBURG, PA 15601 | 6 | 14,723
DAUPHIN COUNTY HA | 501 MOHN ST, STEELTON, PA 17113 | 9 | 22,649
NORTHAMPTON COUNTY HA | 15 S. WOOD ST, NAZARETH, PA 18064 | 3 | 8,930
HA OF UNION COUNTY | 1610 INDUSTRIAL BLVD, STE 400, LEWISBURG, PA 17837 | 12 | 18,118
MUNICIPALITY OF TRUJILLO ALTO | P.O. BOX 1869, TRUJILLO ALTO, PR 00977 | 2 | 2,267
MUNICIPALITY HUMACAO | P.O. BOX 178, HUMACAO, PR 00792 | 9 | 61,752
PUERTO RICO HSG FIN CO | CALL BOX 71361-GPO, SAN JUAN, PR 00936 | 58 | 220,781
HA SOUTH CAROLINA REG NO 1 | 404 CHURCH ST, LAURENS, SC 29360 | 0 | 14,173
HA SUMTER | P.O. BOX 1030, SUMTER, SC 29151 | 24 | 61,391
S C STATE HSG FIN & DEV | 300-C OUTLET POINTE BLVD, COLUMBIA, SC 29210 | 11 | 8,940
PENNINGTON COUNTY HA | 1805 WEST FULTON ST, RAPID CITY, SD 57702 | 0 | 5,568
KNOXVILLE COMM DEV CORP | P.O. BOX 3550, KNOXVILLE, TN 37927 | 32 | 105,385
CHATTANOOGA HA | P.O. BOX 1486, CHATTANOOGA, TN 37402 | 0 | 62,131
METROPOLITAN DEV & HSG | 701 SOUTH SIXTH ST, NASHVILLE, TN 37202 | 6 | 11,978
LAREDO HA | 2000 SAN FRANCISCO AVE, LAREDO, TX 78040 | 3 | 1,725
RICHMOND RHA | P.O. BOX 26887, RICHMOND, VA 23261 | 62 | 541,254
ROANOKE RHA | 2624 SALEM TRNPK, NW, ROANOKE, VA 24017 | 14 | 60,597
LYNCHBURG RHA | 918 COMMERCE ST, LYNCHBURG, VA 24505 | 0 | 15,523
STAUNTON RHA | P.O. BOX 1369, STAUNTON, VA 24402 | 26 | 125,832
LOUDOUN COUNTY HSG SERVICES | 102 HERITAGE WAY NE, STE 202, LEESBURG, VA 20176 | 1 | 9,406
COUNTY OF ALBEMARLE | 1600 5TH ST, STE B, CHARLOTTESVILLE, VA 22902 | 1 | 2,357
VIRGINIA HDA | 601 SOUTH BELVIDERE ST, RICHMOND, VA 23220 | 6 | 79,340
HA CITY OF VANCOUVER | 2500 MAIN ST, #200, VANCOUVER, WA 98660 | 19 | 117,607
HA OF THURSTON COUNTY | 503 WEST FOURTH AVE, OLYMPIA, WA 98501 | 4 | 12,017
PIERCE COUNTY HA | 603 S POLK, TACOMA, WA 98445 | 1 | 4,809
RACINE COUNTY HA | 837 MAIN ST, RACINE, WI 53403 | 0 | 47,140
PLATTEVILLE HA | 75 NORTH BONSON ST, PLATTEVILLE, WI 53818 | 0 | 14,799
WHEELING HA | 11 COMMUNITY ST, WHEELING, WV 26003 | 1 | 717
HA OF CITY OF BECKLEY | P.O. BOX 1780, BECKLEY, WV 25802 | 26 | 95,438
RANDOLPH COUNTY HA | P.O. BOX 1579, ELKINS, WV 26241 | 1 | 2,198
CHEYENNE HA | 3304 SHERIDAN AVE, CHEYENNE, WY 82009 | 0 | 31,235
Total for Mod Rehab Replacements and Fees |  | 2,237 | $22,941,084
Public Housing Relocations and Replacements
HA CITY OF MONTGOMERY | 1020 BELL ST, MONTGOMERY, AL 36104 | 180 | 986,202
TUCSON HSG MANAGEMENT DIV | 310 NORTH COMMERCE PARK LOOP, TUCSON, AZ 85726 | 12 | 67,470
HA OF CITY OF NEW HAVEN | 360 ORANGE ST, NEW HAVEN, CT 06511 | 30 | 180,295
MERIDEN HA | 22 CHURCH ST, MERIDEN, CT 06450 | 45 | 153,443
ST. PETERSBURG HA | 3250 5TH AVENUE NORTH, ST. PETERSBURG, FL 33713 | 300 | 1,028,718
HA AVON PARK | P.O. BOX 1327, AVON PARK, FL 33826 | 18 | 83,376
HA FORT PIERCE | 707 NORTH 7TH ST, FORT PIERCE, FL 34950 | 86 | 529,416
HA RIVIERA BEACH | 2014 WEST, 17TH COURT, RIVIERA BEACH, FL 33404 | 90 | 719,280
BROWARD COUNTY HA | 1773 NORTH STATE ROAD 7, LAUDERHILL, FL 33313 | 190 | 1,776,120
HA SAVANNAH | 200 EAST, BROAD ST, SAVANNAH, GA 31402 | 303 | 959,959
HA ATLANTA GA | 230 JOHN WESLEY DOBBS AVE, NE, ATLANTA, GA 30303 | 14 | 121,784
DES MOINES MUNICIPAL HA | 100 EAST EUCLID, DES MOINES, IA 50313 | 244 | 427,644
HA OF CITY OF EAST ST. LOUIS | 700 NORTH 20TH ST, EAST ST. LOUIS, IL 62205 | 0 | 9,632
CHICAGO HA | 626 WEST JACKSON BLVD, CHICAGO, IL 60661 | 878 | 5,875,576
PEORIA HA | 100 SOUTH SHERIDAN RD, PEORIA, IL 61605 | 0 | 101,376
HA CITY OF ROCK ISLAND | 111 20TH ST, ROCK ISLAND, IL 61201 | 63 | 300,888
BOSTON HA | 52 CHAUNCY ST, BOSTON, MA 02111 | 64 | 912,384
HA OF BALTIMORE CITY | 417 EAST, FAYETTE ST, BALTIMORE, MD 21201 | 656 | 1,533,570
MISS REGIONAL HA VIII | P.O. BOX 2347, GULFPORT, MS 39505 | 85 | 420,240
NEWARK HA | 57 SUSSEX AVE, NEWARK, NJ 07103 | 20 | 75,400
PERTH AMBOY HA | 881 AMBOY AVE, PERTH AMBOY, NJ 08862 | 224 | 2,008,138
NJDCA | 101 SOUTH BROAD ST, TRENTON, NJ 08625 | 57 | 518,335
COLUMBUS METRO. HA | 880 EAST, 11TH AVE, COLUMBUS, OH 43211 | 165 | 1,005,840
OKLAHOMA CITY | 1700 N E FOURTH ST, OKLAHOMA CITY, OK 73117 | 62 | 316,372
TULSA HA | P.O. BOX 6369, TULSA, OK 74148 | 40 | 204,400
HA CITY OF PITTSBURG | 200 ROSS ST, PITTSBURGH, PA 15219 | 43 | 220,332
FAYETTE COUNTY HA | 624 PITTSBURGH RD, UNIONTOWN, PA 15401 | 144 | 641,088
WASHINGTON COUNTY HA | 100 CRUMRINE TOWER FRANKLIN ST, WASHINGTON, PA 15301 | 0 | 24,320
LACKAWANNA COUNTY HA | 2019 WESTPINE ST, DUNMORE, PA 18512 | 75 | 299,700
BROWNSVILLE HA | P.O. BOX 4420, BROWNSVILLE, TX 78523 | 60 | 234,528
MIDLAND COUNTY HA | 1710 EDWARDS, MIDLAND, TX 79701 | 0 | 15,750
VIRGIN ISLANDS HA | P.O. BOX 7668, ST. THOMAS, VI 00801 | 144 | 1,038,528
Total for Public Housing Relocations and Replacements |  | 4,292 | $22,790,104
Grand Total |  | 26,540 | $202,680,883

[FR Doc. E5-6621 Filed 11-28-05; 8:45 am]

BILLING CODE 4210-27-P